DEPARTMENT OF THE INTERIOR

National Park Service

Apostle Islands National Lakeshore General Management Plan, Environmental Impact Statement, Wisconsin; Correction

AGENCY: National Park Service, Interior.

ACTION: Notice of intent to prepare a general management plan and environmental impact statement for Apostle Islands National Lakeshore, Wisconsin; correction.

SUMMARY: In the September 3, 2004, Federal Register, the National Park Service (NPS) announced its intent to prepare a general management plan and environmental impact statement (GMP/EIS) for Apostle Islands National Lakeshore (APIS). After the scoping period for the GMP/EIS ended, on December 8, 2004, Congress officially designated wilderness in the park. While wilderness management was intended to be part of the proposed planning process, the NPS will incorporate the requirements of a wilderness management plan into the general management plan now that Congress has made the official designation.

Correction: The APIS GMP/EIS will incorporate all of the elements necessary for a wilderness management plan. This action will not change the focus or scope of the GMP/EIS.

FOR FURTHER INFORMATION CONTACT: Jim Nepstad, Chief of Planning and Resource Management, Apostle Islands National Lakeshore, Route 1, Box 4, Bayfield, Wisconsin 54814. Telephone 715-779-3398, extension 102; e-mail: jim_nepstad@nps.gov.

Dated: April 1, 2005.
Ernest Quintana,
Regional Director, Midwest Region.

[FR Doc. 05-10731 Filed 5-27-05; 8:45 am]

BILLING CODE 4312-97-P